DEPARTMENT OF JUSTICE

Notice of Lodging of Consent Decree Under the Clean Water Act

Notice is hereby given that on January 7, 2009, a proposed Consent Decree in United States v. Citation Oil & Gas Corp. and Citation 1994 Investment Limited Partnership, Civil Action No. 09-CV-0003-B was lodged with the United States District Court for the District of Wyoming.

In this action the United States seeks civil penalties and injunctive relief for violations of Sections 301(a) or, alternatively 311(b)(3), and Section 311(j) of the Clean Water Act (“CWA”), 33 U.S.C. 1311(a), or alternatively 1321(b)(3), and 1321(j), arising from the alleged unlawful discharge of approximately 597 barrels of crude oil and produced water into the North Fork Powder River and onto the banks adjacent to that river from Defendants' Celler Ranch Unit in Johnson County, Wyoming. Further, the United States also seeks civil penalties and injunctive relief from Defendants' alleged failure to prepare and fully implement an adequate Spill Prevention Control and Countermeasures Plan as required by 40 CFR Part 112.

The settlement secures $280,000 in civil penalties and an estimated $580,000 in injunctive relief from Citation. Among other things, the injunctive relief requires Citation to: Update its facility inventory and facility diagram; develop and implement an enhanced facility inspection, maintenance, and replacement plan; integrity test all buried flowlines that are not visually accessible for inspection; and bring the facility's Spill Prevention Control and Countermeasures Plan into compliance with the applicable regulatory requirements.

The Department of Justice will receive for a period of thirty (30) days from the date of this publication comments relating to the settlement. Comments should be addressed to the Assistant Attorney General, Environment and Natural Resources Division, and either e-mailed to pubcomment-ees.enrd@usdoj.gov or mailed to P.O. Box 7611, U.S. Department of Justice, Washington, DC 20044-7611, and should refer to United States v. Citation Oil & Gas Corp. and Citation 1994 Investment Limited Partnership, Civil Action No. 09-CV-0003-B, D.J. Ref. 90-5-1-1-08867.

The Consent Decree may be examined at the United States Attorneys Office for the District of Wyoming, 2120 Capitol Avenue—4th Floor, Cheyenne, Wyoming 82001 (USAO No. 06V100) and at U.S. EPA Region 8, 1595 Wynkoop Street, Denver, CO 80202-1129. During the public comment period, the Consent Decree, may also be examined on the following Department of Justice Web site, follows http://www.usdoj.gov/enrd/Consent_Decrees.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $11.00 (25 cents per page reproduction cost) payable to the U.S. Treasury or, if by e-mail or fax, forward a check in that amount to the Consent Decree Library at the stated address. In requesting a copy exclusive of exhibits and defendants' signatures, please enclose a check in the amount of: $9.75 (25 cents per page reproduction cost) payable to the U.S. Treasury; $11.25, exhibits included.

Robert Brook,
Assistant Chief, Environmental Enforcement Section, Environment and Natural Resources Division.

[FR Doc. E9-1657 Filed 1-26-09; 8:45 am]

BILLING CODE 4410-15-P